CORPORATION FOR NATIONAL AND COMMUNITY SERVICE

Sunshine Act Notice

The Board of Directors of the Corporation for National and Community Service gives notice of the following meeting:

Date and Time: Wednesday, May 20, 2009, 12:30 p.m.-2:30 p.m.

Place: The Almas Shriner Center, 1315 K St., NW., Washington, DC 20005. Call in number: (202) 898-1688.

Status: Open.

Matters To Be Considered: 12:30-1:15 p.m.

I. Chair's Opening Remarks.

II. Consideration of Prior Meeting's Minutes.

III. CEO Report.

IV. Committee Reports: Management, Audit and Governance Committee; Program and Evaluation Committee; Strategic Partnerships Committee

1:15-2:30 p.m.

V. Public Testimony on the Implementation of the Serve America Act.

Accommodations: Anyone who needs an interpreter or other accommodation should notify the Corporation's contact person by 5 p.m. Monday, February 4, 2008.

Contact Person for More Information: Emily Samose, Office of the CEO, Corporation for National and Community Service, 10th Floor, Room 9613C, 1201 New York Avenue, NW., Washington, DC 20525. Phone (202) 606-7564. Fax (202) 606-3460. TDD: (202) 606-3472. E-mail: esamose@cns.gov.

Dated: May 12, 2009.
Frank R. Trinity,
General Counsel.

[FR Doc. E9-11416 Filed 5-12-09; 4:15 pm]

BILLING CODE 6050-$$-P